DEPARTMENT OF HOMELAND SECURITY

Federal Emergency Management Agency

[Docket No. FEMA-2012-0003; Internal Agency Docket No. FEMA-B-1241]

Proposed Flood Hazard Determinations; Correction

AGENCY: Federal Emergency Management Agency; DHS.

ACTION: Notice; correction.

SUMMARY: On March 28, 2012, FEMA published in the Federal Register a proposed flood hazard determination notice that contained an erroneous table. This notice provides corrections to that table, to be used in lieu of the information published at 77 FR 18837.

DATES: The comment period is ninety (90) days following the second publication of this correction notice in a newspaper of local circulation in the community.

ADDRESSES: The proposed flood hazard information for the affected communities, as shown on the Preliminary FIRM and, where applicable, FIS report, is available for inspection at the Community Map Repositories at the addresses shown in the table below.

FOR FURTHER INFORMATION CONTACT: Luis Rodriguez, Engineering Management Branch, Federal Insurance and Mitigation Administration, FEMA, 500 C Street SW., Washington, DC 20472, (202) 646-4064 or (email) Luis.Rodriguez3@fema.dhs.gov.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at http://www.fema.gov/pdf/media/factsheets/2010/srp_fs.pdf.

The communities affected are listed in the table below. The Preliminary FIRM and where applicable, Preliminary FIS report for each community are available for inspection at both the online location and the respective Community Map Repository address listed in the tables. Additionally, the current effective FIRM and FIS report for each community are accessible online through the FEMA Map Service Center at www.msc.fema.gov for comparison.

Correction

In the proposed flood hazard determination notice published at 77 FR 18837, the table contained inaccurate information as to the location of the Community Map Repository Address for the following communities: the Cities of Coral Springs, Deerfield Beach, Lauderhill, Margate, Oakland Park and Wilton Manors, the Town of Southwest Ranches and the Unincorporated Areas of Broward County, Florida. In this notice, FEMA is publishing a table containing the accurate information, to address these prior errors. The information provided below should be used in lieu of that previously published.

Community | Community map repository address
Broward County, Florida, and Incorporated Areas
Maps Available for Inspection Online at: http://www.bakeraecom.com/index.php/florida/broward/
City of Coconut Creek | City Hall, 4800 West Copans Road, Coconut Creek, FL 33063.
City of Cooper City | City Hall, 9090 Southwest 50th Place, Cooper City, FL 33328.
City of Coral Springs | Building Department, 9530 West Sample Road, Coral Springs, FL 33065.
City of Dania Beach | City Hall, 100 West Dania Beach Boulevard, Dania Beach, FL 33004.
City of Deerfield Beach | Environmental Services—Engineering, 200 Goolsby Boulevard, Deerfield Beach, FL 33442.
City of Fort Lauderdale | City Hall, 100 North Andrews Avenue, Fort Lauderdale, FL 33301.
City of Hallandale Beach | City Hall, 400 South Federal Highway, Hallandale Beach, FL 33009.
City of Hollywood | City Hall, 2600 Hollywood Boulevard, Hollywood, FL 33020.
City of Lauderdale Lakes | City Hall, 4300 Northwest 36th Street, Lauderdale Lakes, FL 33319.
City of Lauderhill | City Hall, 5581 West Oakland Park Boulevard, Lauderhill, FL 33313.
City of Lighthouse Point | City Hall, 2200 Northeast 38th Street, Lighthouse Point, FL 33064.
City of Margate | Department of Environmental and Engineering Services, 901 Northwest 66th Avenue, Suite A, Margate, FL 33063.
City of Miramar | City Hall, 2300 Civic Center Place, Miramar, FL 33025.
City of North Lauderdale | City Hall, 701 Southwest 71st Avenue, North Lauderdale, FL 33068.
City of Oakland Park | Engineering and Community Development Department, 5399 North Dixie Highway, Suite 3, Oakland Park, FL 33334.
City of Parkland | City Hall, 6600 University Drive, Parkland, FL 33067.
City of Pembroke Pines | City Hall, 10100 Pines Boulevard, Pembroke Pines, FL 33026.
City of Plantation | City Hall, 400 Northwest 73rd Avenue, Plantation, FL 33317.
City of Pompano Beach | City Hall, 100 West Atlantic Boulevard, Pompano Beach, FL 33060.
City of Sunrise | City Hall, 10770 West Oakland Park Boulevard, Sunrise, FL 33351.
City of Tamarac | City Hall, 7525 Northwest 88th Avenue, Tamarac, FL 33321.
City of West Park | City Hall, 1965 South State Route 7, West Park, FL 33023.
City of Weston | City Hall, 17200 Royal Palm Boulevard, Weston, FL 33326.
City of Wilton Manors | City Hall, 2020 Wilton Drive, Wilton Manors, FL 33305.
Seminole Tribe of Florida | 6300 Stirling Road, Hollywood, FL 33024.
Town of Davie | Town Hall, 6591 Orange Drive, Davie, FL 33314.
Town of Hillsboro Beach | Town Hall, 1210 Hillsboro Mile, Hillsboro Beach, FL 33062.
Town of Lauderdale-By-The-Sea | Town Hall, 4501 Ocean Drive, Lauderdale-By-The-Sea, FL 33308.
Town of Pembroke Park | Town Hall, 3150 Southwest 52nd Avenue, Pembroke Park, FL 33023.
Town of Southwest Ranches | Town Hall, 13400 Griffin Road, Southwest Ranches, FL 33330.
Unincorporated Areas of Broward County | Broward County Administration Office, 115 South Andrews Avenue, Room 409, Fort Lauderdale, FL 33301.
Village of Lazy Lake | Village Hall, 2250 Lazy Lane, Lazy Lake, FL 33305.
Village of Sea Ranch Lakes | Village Hall, 1 Gatehouse Road, Sea Ranch Lakes, FL 33308.

(Catalog of Federal Domestic Assistance No. 97.022, “Flood Insurance.”)

Dated: July 25, 2012.
Sandra K. Knight,
Deputy Associate Administrator for Mitigation, Department of Homeland Security, Federal Emergency Management Agency.

[FR Doc. 2012-19553 Filed 8-9-12; 8:45 am]

BILLING CODE 9110-12-P